DEPARTMENT OF THE INTERIOR

National Park Service

Proposed World War II Memorial; Notice to the Public of the Secretary of the Interior's Response to Advisory Council on Historic Preservation Comments, and Notice of the Availability of the Record

AGENCY: National Capital Region, National Park Service, Interior.

ACTION: Notice to the public of the Secretary of the Interior's response to Advisory Council on Historic Preservation comments, and notice of the availability of the record.

SUMMARY: Pursuant to 36 CFR 800.7(c)(4)(iii) (1999), the public is notified that on September 13, 2000, the Secretary of the Interior (the Secretary) responded to the September 5, 2000, comments of the Advisory Council on Historic Preservation (Advisory Council), about the proposed World War II Memorial. The Secretary advised the Advisory Council, in accordance with 36 CFR 800.7(c)(4)(i) (1999), that its comments have been taken into account pursuant to Section 106 of the National Historic Preservation Act and attached the detailed response of the National Park Service.

The Advisory Council is concerned primarily with two issues. First, it is concerned with the approach taken by the Department of the Interior/National Park Service (the NPS), to Section 106 and what it sees as the limited nature of public involvement in the site and design selection process. Second, the Advisory Council believes the current design does not achieve the strict standard of compatibility with the historic setting of the National Mall.

The Secretary and the NPS believe the requirements of Section 106 have been met. In February 1996, the NPS contacted the Advisory Council and the District of Columbia Historic Preservation Officer (DCHPO) about the proposed Memorial. In 1997 the NPS submitted the original design concept to the Advisory Council and DCHPO and invited the Advisory Council to consult. In 1998, the NPS began consultation with the Advisory Council on the revised design. This process continued until July 2000 and resulted in a Memorandum of Agreement between the NPS, the DCHPO, and the American Battle Monuments Commission (ABMC). The Advisory Council, however, did not sign this agreement, choosing instead to provide comments pursuant to Section 800.7 of the Advisory Council regulations (36 CFR 800.7 (1999)).

The Secretary and the NPS believe that the publication of notices about actions taken on this Memorial (and invitations for public comments) in the Federal Register, and numerous meetings about the Memorial to which the public was invited, provided extensive opportunities for public participation in the site and design selection process. The NPS is, however, seriously evaluating the Advisory Council's suggestion to further expand the public discussion on national memorials and expects to engage in discussions with the Advisory Council in this regard.

In its September 5, 2000, comments, the Advisory Council expressed concern with three aspects of the current design: (1) Its scale and impact on vistas, (2) the lighting plan, and (3) the proposed sculptural element.

Following initial consideration of the Advisory Council's September 5, 2000, comments and its corresponding response to the Advisory Council, the Secretary and the NPS have continued to consider the Advisory Council's comments on those occasions this Fall when the Memorial was before the Commission of Fine Arts and the National Capital Planning Commission, and prior to the NPS' issuance of a construction permit for the Memorial.

It is the view of the NPS that the scale of the Memorial is appropriate and that it will maintain the transparency of the historic landscape without blocking vistas. The NPS also understands the Advisory Council's concerns about lighting. Based on its experience with other commemorative works, the NPS believes the correct intensity of lighting can best be determined after completion of the Memorial. The NPS will act in concert with the Commission of Fine Arts and the National Capital Planning Commission to resolve any lighting concerns. Concerning the third point, there has been no final decision as to whether a sculptural element will be included in the Rainbow Pool. If such an element is included it will be subject to design parameters that will ensure that it does not intrude on any vistas and the design concept will be considered by all relevant approval bodies at the appropriate time.

The Secretary and the NPS believe the process for this commemorative work has complied with Section 106 of the National Historic Preservation Act, the Commemorative Works Act, and other applicable laws, and has taken the Advisory Council's comments into account. The NPS nevertheless is committed to working with the Advisory Council to address the Counsel's interest in further modifying the Section 106 process in the context of future proposed commemorative works.

SUPPLEMENTARY INFORMATION: The record for this decision is available for public inspection at the Office of Lands, Resources and Planning, National Capital Region, National Park Service, 1100 Ohio Drive, SW., Room 220, Washington, DC 20242. Copies of the response to the Advisory Council are also available upon request from Mr. John G. Parsons, Associate Regional Director for Lands, Resources and Planning. Individuals requiring further information should contact Mr. John G. Parsons, Associate Regional Director for Lands, Resources and Planning, National Capital Region, National Park Service, 1100 Ohio Drive, SW., Room 220, Washington, DC 20242.

Dated: January 17, 2001.
Terry R. Carlstrom,
Regional Director, National Capital Region.

[FR Doc. 01-2642 Filed 1-30-01; 8:45 am]

BILLING CODE 4310-70-M